SOCIAL SECURITY ADMINISTRATION

[Docket No. SSA-2009-0018]

Privacy Act of 1974, as Amended; Computer Matching Program (Social Security Administration/Department of the Treasury, Internal Revenue Service (SSA/IRS))—Match Number 1310

AGENCY: Social Security Administration (SSA).

ACTION: Notice of renewal of an existing computer matching program scheduled to expire on October 3, 2009.

SUMMARY: In accordance with the Privacy Act, as amended, this notice announces renewal of an existing computer matching program that we are currently conducting with IRS.

DATES: We will file a report of the subject matching program with the Committee on Homeland Security and Governmental Affairs of the Senate; the Committee on Oversight and Government Reform of the House of Representatives, and the Office of Information and Regulatory Affairs, Office of Management and Budget (OMB). Renewal of the matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving federal agencies could be performed and adding certain protections for persons applying for, and receiving, federal benefits. Section 7201 of the Omnibus Budget Reconciliation Act of 1990 (Pub. L. 101-508) further amended the Privacy Act regarding protections for such persons.

The Privacy Act, as amended, regulates the use of computer matching by federal agencies when records in a system of records are matched with other federal, state, or local government records. It requires federal agencies involved in computer matching programs to:

(1) Negotiate written agreements with other agencies participating in the matching programs;

(2) Obtain approval of the matching agreement by the Data Integrity Boards of the participating federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all our computer matching programs comply with the requirements of the Privacy Act, as amended.

Dated: May 22, 2009.
Mary Glenn-Croft,
Deputy Commissioner for Budget, Finance and Management.

Notice of Computer Matching Program, SSA With IRS

A. Participating Agencies

SSA and IRS

B. Purpose of the Matching Program

This agreement sets forth the terms under which IRS agrees to disclose to us certain tax return information for the purpose of establishing the correct amount of Medicare Part B premium subsidy adjustment under Section 1839(i) of the Social Security Act (Act), which was enacted by Section 811 of the Medicare Prescription Drug, Improvement, and Modernization Act of 2003.

C. Authority for Conducting the Matching Program

Section 6103(1)(20) of the Internal Revenue Code (IRC 6103(1)(20)) authorizes IRS to disclose specified tax return information to us with respect to taxpayers whose Part B insurance premium may (according to IRS records) be subject to adjustment pursuant to Section 1839(i) of the Act, for the purpose of establishing the amount of any such adjustment.

Section 1839(i) of the Act requires us to determine the amount of a beneficiary's Part B premium subsidy adjustment if the Modified Adjusted Gross Income (MAGI) is above the applicable threshold as established in Section 1839(i) of the Act. Pursuant to Section 1839(i) of the Act (42 U.S.C. 1395r), we determine whether a Medicare Part B beneficiary pays a larger percentage of the Part B premium than a beneficiary with income below the applicable threshold.

D. Categories of Records and Persons Covered by the Matching Program

We will disclose to IRS the names and Social Security numbers (SSNs) of all appropriate beneficiaries who either are enrolled or have become entitled to Medicare Part B. On a weekly basis, we will provide IRS with this information with respect to SSA Part B beneficiaries who:

a. Are enrolled in Medicare under the rules in Section 1837 of the Act (42 U.S.C. 1395p) and have not dis-enrolled from Medicare Part B; or

b. Have filed applications specifically for Medicare Part B; or

c. Have been determined to have retroactive Medicare Part B entitlement.

As part of the weekly transmission, we will include the name, SSN, premium year, and income threshold amounts for new Part B enrollees. Once each year, we will provide the name, SSN, premium year, and income threshold amounts for all appropriate enrollees in Part B. We will use information obtained in this annual request to determine Part B premium subsidy adjustments for the coming premium year. At the time of the annual exchange, we include the name, SSN, premium year, income threshold amounts, and requested tax year with respect to all enrollees who asked us to use a more recent tax year or for beneficiaries where IRS provided 3-year-old tax data on the initial request. We will use the information obtained to correct Part B premium subsidy adjustments for the requested premium year.

On a weekly basis, IRS will extract MAGI data pertaining to the Part B enrollees from the Return Transaction File. IRS will extract MAGI data pertaining to the tax year beginning in the second calendar year preceding the year for which the premium subsidy adjustment is being calculated (the premium year). When MAGI data for the second tax year preceding the premium year is not available as of October 16 of the year immediately preceding the premium year, MAGI data pertaining to the third tax year preceding the premium year will be provided to us.

For the annual request, IRS will extract MAGI data as described above and provide the responsive records to us. For requests seeking more recent tax year data, IRS will extract MAGI data of the requested year, and provide the information to us.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E9-19920 Filed 8-18-09; 8:45 am]

BILLING CODE 4191-02-P